DEPARTMENT OF THE INTERIOR

Fish and Wildlife Service

Endangered and Threatened Species Permit Applications

AGENCY: Fish and Wildlife Service, Interior.

ACTION: Notice of receipt of application.

SUMMARY: The following applicant has applied for a permit to conduct certain activities with endangered species. This notice is provided pursuant to section 10(c) of the Endangered Species Act of 1973, as amended (16 U.S.C. 1531, et seq.).

DATES: Written data or comments must be received on or before December 1, 2005.

ADDRESSES: Send written data or comments to the Regional Director (Attention: Peter Fasbender), U.S. Fish and Wildlife Service, Ecological Services, 1 Federal Drive, Fort Snelling, Minnesota 55111-4056.

FOR FURTHER INFORMATION CONTACT: Mr. Peter Fasbender, (612) 713-5343.

SUPPLEMENTARY INFORMATION:

Permit Number: TE113009.

Applicant: Steven Ahlstedt, Norris, Tennessee.

The applicant requests a permit amendment to take the white catspaw (Epioblasma obliquata perobliqua) and purple catspaw (E. o. obliquata) throughout Indiana and Ohio. The scientific research is aimed at enhancement of survival of the species in the wild.

Dated: October 12, 2005.
Wendi Weber,
Assistant Regional Director, Ecological Services, Region 3, Fort Snelling, Minnesota.

[FR Doc. 05-21694 Filed 10-31-05; 8:45 am]

BILLING CODE 4310-55-P